DEPARTMENT OF THE INTERIOR

Bureau of Land Management

[LLCAD070000 L16100000 DT0000]

Notice of Availability of the Proposed Imperial Sand Dunes Recreation Area Management Plan and California Desert Conservation Area Plan Amendment/Final Environmental Impact Statement

AGENCY: Bureau of Land Management, Interior.

ACTION: Notice of availability.

SUMMARY: In accordance with the National Environmental Policy Act of 1969, as amended, and the Federal Land Policy and Management Act of 1976, as amended, the Bureau of Land Management (BLM) has prepared a Proposed Recreation Area Management Plan (RAMP) and California Desert Conservation Area (CDCA) Plan Amendment/Final Environmental Impact Statement (EIS), for the Imperial Sand Dunes Recreation Area (ISDRA), and by this notice is announcing its availability.

DATES: BLM planning regulations provide that any person who meets the conditions as described in the regulations may protest the BLM's Proposed RAMP and CDCA Plan Amendment/Final EIS. A person who meets the conditions and files a protest must file the protest within 30 days of the date that the Environmental Protection Agency publishes its Notice of Availability in the Federal Register.

ADDRESSES: Copies of the Proposed Imperial Sand Dunes RAMP and CDCA Plan Amendment/Final EIS have been sent to affected Federal, State, and local government agencies; Native American Tribes; and to other stakeholders. Copies of the Proposed Imperial Sand Dunes RAMP and CDCA Plan Amendment/Final EIS are available for public inspection at the BLM El Centro Field Office, 1661 South Fourth Street, El Centro, CA 92243. Interested persons may also review the Proposed Imperial Sand Dunes RAMP and CDCA Plan Amendment/Final EIS on the Internet at http://www.blm.gov/ca/elcentro. All protests must be in writing and mailed to the following addresses:

Regular Mail: BLM Director (210), Attention: Brenda Hudgens-Williams, P.O. Box 71383, Washington, DC 20024-1383.

Overnight Mail: BLM Director (210), Attention: Brenda Hudgens-Williams, 20 M Street SE., Room 2134LM, Washington, DC 20003.

If an appeal is taken, the notice of appeal must be filed in the BLM El Centro Field Office, 1661 South Fourth Street, El Centro, CA 92243, within 30 days of the decision.

FOR FURTHER INFORMATION CONTACT: For further information, contact Greg Hill, Project Manager, BLM El Centro Field Office, 1661 South Fourth, El Centro, CA 92243; by phone at 760-337-4400; or by email at greg_hill@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Imperial Sand Dunes Recreation Area (ISDRA) and surrounding lands included in the planning area encompass approximately 215,000 acres of public lands managed by the BLM. The planning area is located in the southeastern portion of Imperial County, California. The 2005 Record of Decision for the 2003 RAMP was vacated by a U.S. District Court in September 2006. Portions of the biological opinion for the Peirson's milkvetch were also remanded to the Fish and Wildlife Service. The 2012 RAMP addresses this issue as well as others in the planning area.

The primary activities in the ISDRA include off-highway vehicle use and camping. The Proposed Imperial Sand Dunes RAMP and CDCA Plan Amendment/Final EIS has been developed through a collaborative planning process and considers eight alternatives. Issues addressed in the Proposed Imperial Sand Dunes RAMP and CDCA Plan Amendment/Final EIS include: Recreation; transportation and public access; wildlife and botany (i.e. Peirson's milkvetch); cultural resources and paleontology; renewable energy; air and water resources; geology and soils; mineral resources; socioeconomics; public health and safety; and visual resources. The Proposed Imperial Sand Dunes RAMP and CDCA Plan Amendment/Final EIS includes strategies for protecting and preserving the recreational, biological, cultural, geological, educational, and scenic values for which the recreation area was established.

Eight alternatives were analyzed in the Proposed RAMP/Plan Amendment and FEIS. The “no action” alternative represents current management of the ISDRA. Seven additional “action” alternatives present reasonable, yet varying, management scenarios. The alternatives range from emphasizing maintenance of the naturalness of the ISDRA (by restricting some recreation uses) to emphasizing continued recreation uses, while still protecting the resources and values for which the area was established. The range of alternatives in the Proposed Imperial Sand Dunes RAMP and CDCA Plan Amendment/Final EIS evaluates planning decisions brought forward from current BLM planning documents, including the California Desert Conservation Area Plan (1980) as amended.

Comments on the Draft RAMP/Plan Amendment and EIS received from the public and internal BLM review were considered and incorporated as appropriate into the proposed plan. Public comments resulted in a variety of clarifications and modifications throughout the Proposed Imperial Sand Dunes RAMP and CDCA Plan Amendment/Final EIS. Public comments resulted in the addition of clarifying text, but did not significantly change the proposed land use plan decisions analyzed in the alternatives. Revisions made between the Draft RAMP/Plan Amendment and Draft EIS and the Proposed RAMP/Plan Amendment and FEIS include: Quantification of some management goals and objectives; clarification of multiple-use classes and visual resource management; consideration of lands with wilderness characteristics; modifications to alternatives regarding camping in the Dunebuggy Flats area; and modifications to implementation-level decisions to correctly categorize them as plan-level decisions or implementation actions.

The Proposed Imperial Sand Dunes RAMP and CDCA Plan Amendment/Final EIS also considers changes to Areas of Critical Environmental Concern (ACEC); the Plank Road, East Mesa, and North Algodones Dunes ACECs. The preferred alternative would retain the existing 416 acre Plank Road ACEC; reduce the East Mesa ACEC from 6,454 acres to 5,799 acres; and eliminate the North Algodones Dunes ACEC in order to remove conflicting management prescriptions between this ACEC and the North Algodones Dunes Wilderness.

Instructions for filing a protest with the Director of the BLM regarding the Proposed Imperial Sand Dunes RAMP and CDCA Plan Amendment/Final EIS may be found in the “Dear Reader” Letter of the Proposed Imperial Sand Dunes RAMP and CDCA Plan Amendment/Final EIS and at 43 CFR 1610.5-2. Email and faxed protests will not be accepted unless the protesting party also provides the original letter by either regular or overnight mail postmarked by the close of the protest period. Under these conditions, the BLM will consider the email or faxed protest as an advance copy, and it will receive full consideration. If you wish to provide the BLM with such advance notification, please direct faxed protests to the attention of the BLM protest coordinator at 202-245-0028, and emails to Brenda_Hudgens-Williams@blm.gov.

All protests, including the follow-up letter to emails or faxes, must be in writing and mailed to the appropriate address, as set forth in the ADDRESSES section above.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5

Thomas F. Zale,
Acting Field Manager, El Centro Field Office.

[FR Doc. 2012-21936 Filed 9-6-12; 8:45 am]

BILLING CODE 4310-40-P